DEPARTMENT OF COMMERCE

National Oceanic and Atmospheric Administration

[I.D. 031606A]

Notice of Intent to Prepare an Environmental Impact Statement for the Proposed Issuance of an Incidental Take Permit; Extension of Comment Period

AGENCY: National Marine Fisheries Service (NMFS), National Oceanic and Atmospheric Administration (NOAA), Commerce

ACTION: Notice; scoping meetings; extension of comment period and revision.

SUMMARY: This document contains an extension to the comment period and revisions to the time for the first of two meetings for a notice of intent to prepare an environmental impact statement for the proposed issuance of an incidental take and scoping meetings. The original notice was published March 27, 2006.

DATES: We must receive written comments on alternatives and issues to be addressed in the EIS by June 14, 2006. We will hold public scoping meetings on:

Tuesday, June 6, 2006, at East Portland Community Center, 740 SE 106th Avenue, Portland, OR from 5 p.m. to 7 p.m., and on Wednesday, June 7, 2006, at Portland City Hall, Lovejoy Room, 1221 SW 4th Avenue, Portland, OR from 5 p.m. to 7 p.m.. We will accept oral and written comments at these meetings.

FOR FURTHER INFORMATION CONTACT: Joe Zisa, USFWS, (360)231-6961 or Ben Meyer, NMFS, (503)230-5425.

SUPPLEMENTARY INFORMATION: On March 27, 2006, NMFS published a notice of scoping meetings. Accordingly, this document is extending the comment period and revisiong the time for the first of two meetings [see DATES]. All other information contained in the original document has not been changed.

Dated: May 11, 2006.
Angela Somma,
Chief, Endangered Species Division, Office of Protected Resources, National Marine Fisheries Service.

[FR Doc. E6-7498 Filed 5-16-06; 8:45 am]

BILLING CODE 3510-22-S